DEPARTMENT OF COMMERCE

National Oceanic and Atmospheric Administration

50 CFR Part 635

[I.D. 040605D]

Atlantic Highly Migratory Species; Commercial Shark Management Measures

AGENCY: National Marine Fisheries Service (NMFS), National Oceanic and Atmospheric Administration (NOAA), Commerce.

ACTION: Receipt of a petition for rulemaking; request for comments.

SUMMARY: NMFS announces the receipt of, and requests public comment on, a petition from the North Carolina Department of Environment and Natural Resources, Division of Marine Fisheries (Petitioner) to initiate rulemaking to amend the extent of the current time/area closure for Atlantic sharks off the Mid-Atlantic region.

DATES: Written comments must be received no later than 5 p.m., eastern standard time, on July 11, 2005.

ADDRESSES: Written comments on the petition should be sent to Jackie Wilson, Highly Migratory Species Management Division:

• E-mail: SF1.040605D@noaa.gov.

• Mail: 1315 East-West Highway, Silver Spring, MD 20910. Please mark the outside of the envelope “Comments on Petition for Rulemaking for Sharks.”

• Fax: 301-713-1917.

• Federal e-Rulemaing Portal: http://www.regulations.gov. Include in the subject line the following identifier: I.D. 040605D.

Copies of the petition are available upon request at the address specified above and are also available on the internet at http://www.nmfs.noaa.gov/sfa/hms.

FOR FURTHER INFORMATION CONTACT: Jackie Wilson or Karyl Brewster-Geisz by phone: 301-713-2347 or by fax: 301-713-1917.

SUPPLEMENTARY INFORMATION:

Petition for Rulemaking

On March 7, 2005, NMFS received a request from the Petitioner to initiate rulemaking for a regulatory amendment to 50 CFR 635.2 in the definition of the “Mid-Atlantic shark closed area.” The proposal would reduce the current closed area by changing the boundary from 55 fathoms to only include waters out to 15 fathoms coastwide for North Carolina. The Petitioner has stated that this action would allow North Carolina fishermen access to the larger sharks in deeper waters from 15 to 55 fathoms and minimize discards of juvenile and protected sharks to a reasonable extent. The Petitioner states that the available data suggest that juvenile sharks occur predominately near shore. Thus, the Petitioner proposes that closing out to 15 fathoms along the entire North Carolina coastline instead of out to 55 fathoms for the northern part of North Carolina will still attain the management goal of protecting juvenile sandbar and prohibited dusky sharks. The Petitioner believes that the offshore extent of the current closed area encompasses the primary shark fishing grounds off North Carolina and severely restricts access to the shark quota off North Carolina, particularly during the first trimester.

The Petitioner asserts that the current time/area closure off of North Carolina is not justified based on available data, and has been implemented in violation of at least three National Standards (e.g., #4, 8, and 10) of the Magnuson-Stevens Fishery Conservation and Management Act. The Petitioner notes that the proposed change could address the above concerns and have positive significant economic benefits to fishermen, dealers, and fishing communities in the South Atlantic.

During the proposed rule stage of Amendment 1 (August 1, 2003, 68 FR 45196) of the Highly Migratory Species Fishery Management Plan, NMFS took comment on a much larger time/area closure (31,387 square nautical miles from VA to SC) than the current time/area closure. Based on comments from fishermen, NMFS conducted additional analyses and adjusted the time/area closure's seaward boundary to follow the 60 to 80 fathom contour (4,490 square nautical miles). This area was selected to include all observed catches of dusky and sandbar sharks while mitigating social and economic impacts on fishing communities in North Carolina compared to the originally proposed closed area. The analyses conducted in Amendment 1 indicated that the current time/area closure should reduce dusky shark catch by 79 percent, and neonate and juvenile sandbar shark catch by 55 percent. Because the rebuilding plan for large coastal sharks (LCS) incorporated the mortality reductions anticipated for the existing time/area closure, it is possible that changes to the closure of the magnitude suggested by the Petitioner would require an amendment to the rebuilding plan.

In the final rule, NMFS also delayed implementation of the time/area closure for a year to allow fishermen time to adjust to the new regulations (December 24, 2003, 68 FR 74746). Thus, this closure has not yet been in place for a full year.

The Petitioner notes that North Carolina's interest in changing the time/area closure is on record. In addition, on March 23, 2005, the Petitioner presented this issue to the HMS Advisory Panel (AP), stating that the time/area closure disproportionately affects fishermen operating from home ports in the State of North Carolina. AP members noted that the LCS stock assessments determined that sandbar and dusky sharks have been overfished and are not currently rebuilt, thus warranting further management actions to rebuild these stocks. AP members also stated that any amendment to the current time/area closure must not increase mortality on large juvenile sandbar or dusky sharks because rebuilding these stocks requires lowering the mortality rate of large juveniles. AP members also discussed alternatives, such as the Atlantic States Marine Fisheries Commission working with other East Coast states for more statewide compliance with regulations at least as restrictive as Federal regulations.

Request for Comments

NMFS solicits comments from the public regarding the need to proceed with rulemaking to amend the current Mid-Atlantic shark closed area. NMFS is specifically requesting that the public provide comments on the social, economic, and biological impacts that a potential regulatory amendment to the closure would have on the LCS rebuilding plan. NMFS will consider this public input in determining the need to amend regulations.

Authority: 16 U.S.C. 1801 et seq.

Dated: May 3, 2005.
Alan D. Risenhoover,
Acting Director, Office of Sustainable Fisheries, National Marine Fisheries Service.

[FR Doc. 05-9332 Filed 5-9-05; 8:45 am]

BILLING CODE 3510-22-S